DEPARTMENT OF HOMELAND SECURITY

Coast Guard

33 CFR Part 100

[Docket No. USCG-2025-0647]

Special Local Regulation; Charlevoix Venetian Night Boat Parade; Charlevoix, MI

AGENCY: Coast Guard, DHS.

ACTION: Notice of enforcement of regulation.

SUMMARY: The Coast Guard will enforce the Charlevoix Venetian Night Boat Parade; Charlevoix, MI special local regulation on the U.S. navigable waters of Round Lake, Charlevoix, MI on July 26, 2025. Enforcement of this regulation is necessary to protect the safety of life and property on these navigable waters prior to, during, and immediately after the Charlevoix Venetian Night Boat Parade. During the enforcement period listed below, entry into, transiting, or anchoring within the regulated area is prohibited unless authorized by the Captain of the Port Northern Great Lakes or a designated representative.

DATES: The regulations in 33 CFR 100.908 will be enforced from 9:30 p.m. to 11 p.m. on July 26, 2025.

FOR FURTHER INFORMATION CONTACT: If you have questions about this notice of enforcement, call or email LT Rebecca Simpson, Chief of Waterways Management, division, U.S. Coast Guard; telephone 906-635-3223, email ssmprevention@uscg.mil.

SUPPLEMENTARY INFORMATION: The Coast Guard will enforce the established special local regulation in 33 CFR 100.908 for the Charlevoix Venetian Night Boat Parade; Charlevoix, MI from 9:30 p.m. to 11 p.m. on July 26, 2025.

In accordance with the requirements in § 100.908, entry into, transiting, or anchoring within the regulated area is prohibited unless authorized by the Captain of the Port (COTP) Northern Great Lakes or a designated representative. Those seeking permission to enter the regulated area may request permission from the COTP Northern Great Lakes or a designated representative. Vessels and persons granted permission to enter the regulated area must obey all lawful orders or directions of the Captain of the Port Northern Great Lakes or a designated representative. While within the regulated area, all vessels must operate at the minimum speed necessary to maintain a safe course.

In addition to this notice of enforcement in the Federal Register, the Coast Guard will provide the maritime community with advance notification of this enforcement period via Broadcast Notice to Mariners or Local Notice to Mariners. If the COTP Northern Great Lakes determines that the regulated area need not be enforced for the full duration stated in this notice, he or she may suspend such enforcement and notify the public of the suspension via Broadcast Notice to Mariners and grant general permission to enter the regulated area.

Dated: July 11, 2025.
J.R. Bendle,
Captain, U.S. Coast Guard, Captain of the Port Northern Great Lakes.

[FR Doc. 2025-13292 Filed 7-15-25; 8:45 am]

BILLING CODE 9110-04-P